DEPARTMENT OF JUSTICE

Antitrust Division

Notice Pursuant to the National Cooperative Research and Production Act of 1993—Information Warfare Research Project Consortium

Notice is hereby given that, on April 12, 2023, pursuant to Section 6(a) of the National Cooperative Research and Production Act of 1993, 15 U.S.C. 4301 et seq. (“the Act”), Information Warfare Research Project Consortium (“IWRP”) has filed written notifications simultaneously with the Attorney General and the Federal Trade Commission disclosing changes in its membership. The notifications were filed for the purpose of extending the Act's provisions limiting the recovery of antitrust plaintiffs to actual damages under specified circumstances. Specifically, Absolute Business Solutions, Inc., McLean, VA; Advanced Technology Systems Company of Virginia, McLean, VA; Ascension Engineering Group, Colorado Springs, CO; Colossal Contracting LLC, Annapolis, MD; Command Post Technologies, Inc., Suffolk, VA; Compendium Federal Technology LLC, Lexington Park, MD; Concurrent Technologies Corporation, Johnstown, PA; Descartes Labs Government, Inc., Santa Fe, NM; Edge Case Research, Inc., Pittsburgh, PA; Electromagnetic Systems, Inc., El Segundo, CA; Frequentis Defense, Inc., Columbia, MD; Guided Particle Systems, Inc., Pensacola, FL; Inmarsat Government, Inc., Reston, VA; Kairos Research, LLC, Dayton, OH; KGS, LLC, Arlington, VA; KITCO Fiber Optics, Inc., Norfolk, VA; Lepton Global Solutions LLC dba Kymeta Government & Defense, McLean, VA; NEXCEPTA, Inc., Gaithersburg, MD; nou Systems, Inc., Huntsville, AL; Optimal Satcom, Inc., Herndon, VA; Optimal Solutions and Technologies, Inc., McLean, VA; PatchPlus Consulting, Inc., Medford, NJ; Peerless Technologies Corporation, Fairborn, OH; Premier Federal, Inc., Atlanta, GA; Pyramid Systems, Inc., Fairfax, VA; Quantum Research International, Huntsville, AL; Rackner, Inc., Silver Spring, MD; RKF Engineering Solutions LLC, Bethesda, MD; Royce Geospatial Consultants, Inc., Arlington, VA; Strategic Technology Consulting, LLC, Toms River, NJ; Titan Technologies, LLC, Destin, FL; Torrey Pines Logic, Inc., San Diego, CA; Ultra Electronics Advanced Tactical Systems, Inc., Austin, TX; Ultralight Industries Corporation, Cincinnati, OH; ZCTS LLC, Arlington, VA have been added as parties to this venture.

Also, 3Sphere Innovation, Inc., Huntington Beach, CA; Acumen Solutions, Inc., McLean, VA; AM Pierce & Associates, Inc., California, MD; Arganteal Corp., Austin, TX; Big Metal Additive, Inc., Evergreen, CO; Blank Slate Solution, Mount Pleasant, SC; Cobalt Solutions, Inc. Austin, TX; Disruptiv Technologies LLC, Edgewater, MD; FutureGen Robotics LLC, Boca Raton, FL; GreenSight, Inc., Boston, MA; Integration Group of Americas, Inc., Spring, TX; ISPA Technology LLC, Lithia, FL; Kapsuun Group, Lorton, VA; Leapfrog AI dba Defense Unicorns, Colorado Springs, CO; Mobilestack, Inc., Dublin, CA; Mythics, Inc., Virginia Beach, VA; Novetta, Inc., McLean, VA; NTT DATA Federal Services, Inc., Herndon, VA; Nutronics, Inc., Longmont, CO; Omega-KR LLC, Austin, TX; Otava, Inc., Moorestown, NJ; Panasonic Corp. of North America, Newark, NJ; Presence Product Group LLC, San Francisco, CA; Ravn, Inc., San Francisco, CA; Saab Barracuda LLC, Lillington, NC; Segue Technologies, Inc., Arlington, VA; Service Robotics & Technologies, Springfield, VA have withdrawn as parties to this venture.

No other changes have been made in either the membership or planned activity of the group research project. Membership in this group research project remains open, and IWRP intends to file additional written notifications disclosing all changes in membership.

On October 15, 2018, IWRP filed its original notification pursuant to Section 6(a) of the Act. The Department of Justice published a notice in the Federal Register pursuant to Section 6(b) of the Act on October 23, 2018 (83 FR 53499).

The last notification was filed with the Department on January 11, 2023. A notice was published in the Federal Register pursuant to Section 6(b) of the Act on January 25, 2023 (88 FR 4851).

Suzanne Morris,
Deputy Director, Civil Enforcement Operations, Antitrust Division.

[FR Doc. 2023-12540 Filed 6-12-23; 8:45 am]

BILLING CODE P